DEPARTMENT OF COMMERCE

National Oceanic and Atmospheric Administration

RIN 0648-XD893

North Pacific Fishery Management Council; Public Meeting

AGENCY: National Marine Fisheries Service (NMFS), National Oceanic and Atmospheric Administration (NOAA), Commerce.

ACTION: Notice of a public meeting.

SUMMARY: The North Pacific Fishery Management Council (Council) Fixed Gear Electronic Monitoring (EM) workgroup will meet by teleconference.

DATES: The meeting will be held on April 27, 2015, from 8 a.m. to 4 p.m. Alaska time.

ADDRESSES: The meeting will be held at the North Pacific Fishery Management Council, 605 W 4th Avenue, Suite 205, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda is to discuss 2015 fieldwork and data review, and discuss progress on 2016 pre-implementation including developing a strawman deployment plan and establishing funding sources.

The Agenda is subject to change, and the latest version will be posted at http://www.npfmc.org/.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: April 6, 2015.
Tracey L. Thompson,
Acting Deputy Director, Office of Sustainable Fisheries, National Marine Fisheries Service.

[FR Doc. 2015-08180 Filed 4-9-15; 8:45 am]

BILLING CODE 3510-22-P